DEPARTMENT OF TRANSPORTATION

Federal Aviation Administration

Notice of Intent To Prepare a Tiered Environmental Impact Statement and Conduct Environmental Scoping for the Construction and Operation of Inaugural Airport Facilities by the State of Illinois for the South Suburban Airport

AGENCY: Federal Aviation Administration, DOT.

ACTION: Notice of intent to prepare a Tiered Environmental Impact Statement and to hold one (1) public scoping meeting and one (1) governmental and agency scoping meeting.

SUMMARY: The Federal Aviation Administration (FAA) is issuing this notice to advise the public that a tiered Environmental Impact Statement (EIS) will be prepared to consider the construction and operation of Inaugural Airport Facilities for the south Suburban Airport (SSA). To ensure that all significant issues related to the proposed project are identified, one (1) public scoping meeting and one (1) governmental and public agency scoping meeting will be held. The scope of the proposed action is significantly different from earlier scoping completed in August 2000 that considered the location and acquisition of land by the state of Illinois for a potential future supplemental air carrier airport to serve the northeast Illinois and northwest Indiana metropolitan area. New public scoping will be held in order that all significant issues related to the proposed actions are identified.

FOR FURTHER INFORMATION CONTACT: Denis R. Rewerts, Federal Aviation Administration, Chicago Airports District Office, Room 320, 2300 East Devon Avenue, Des Plaines, Illinois 60018. Mr. Rewerts can be contacted at (847) 294-7195 (voice), (847) 294-7046 (facsimile) or by e-mail at 7-agl-ssa-eis-project@faa.gov. Comments on the scope of the EIS should be submitted to the address above and must be received no later than Friday, December 19, 2003.

SUPPLEMENTARY INFORMATION: The FAA will prepare a Tier 2 EIS for development of inaugural airport facilities at the SSA site located in Will County, IL. An earlier Tier 1 EIS approved in the FAA Record of Decision on July 12, 2002, addressed FAA site approval for a potential future supplemental air carrier airport to serve the greater Chicago region. This second tier (Tier 2 EIS) will address the construction and operation of inaugural airport facilities for the SSA. All reasonable alternatives to the proposed action will be considered including the No-Action Alternative.

Copies of a scoping document with additional detail can be obtained by contacting the FAA informational contact person identified above. The scoping documents can also be accessed on the Internet at http://www.southsuburbanairport.com. Federal, state and local agencies and other interested parties are invited to make comments and suggestions to ensure that the full range of issues related to the proposed project are addressed and all significant issues identified. The FAA informational contact person identified above must receive these comments and suggestions no later than Friday, December 19, 2003.

Public Scoping Meetings

The FAA will hold one (1) public and one (1) governmental agency scoping meeting to solicit input from the public and various Federal, state, and local agencies which have jurisdiction by law or have specific expertise with respect to any environmental impacts associated with the proposed project. The agency and public scoping meetings will be held on December 3, 2003, in Engbretson Hall at Governors State University, University Park, Illinois. The first meeting will be held between 10 a.m. and 12 p.m. for Federal, State, and local agencies. The second meeting will be held from 4 p.m. to 8 p.m. for the public and other interested parties. An informational workshop on the SSA Tier 2 EIS will run concurrent with the public scoping meeting. The workshop will be held at the hall of governors, Governors State University, University parkway, University Park, Illinois.

Dated: Issued in Des Plaines, Illinois on October 22, 2003.
Philip M. Smithmeyer,
Manager, Chicago Airports District Office, FAA, Great Lakes Region.

[FR Doc. 03-27178 Filed 10-27-03; 8:45 am]

BILLING CODE 4910-13-M